DEPARTMENT OF TRANSPORTATION

National Highway Traffic Safety Administration

[Docket Nos. NHTSA-2021-0056, NHTSA-2021-0057; Notice 1]

Vee Rubber Corporation Ltd. and American Honda Motor Co., Inc., Receipt of Petitions for Decision of Inconsequential Noncompliance

AGENCY: National Highway Traffic Safety Administration (NHTSA), Department of Transportation (DOT).

ACTION: Receipt of petitions.

SUMMARY: Vee Rubber Corporation Ltd. (VRC) and American Honda Motor Co., Inc., (Honda) have determined that certain Vee Rubber VRM133 motorcycle tires sold as replacement equipment and as original equipment for installation on certain model year (MY) 2019-2021 Honda Monkey motorcycles do not fully comply with Federal Motor Vehicle Safety Standard (FMVSS) No. 119, New Pneumatic Tires for Motor Vehicles with a GVWR of More Than 4,536 Kilograms (10,000 Pounds), Specialty Tires, and Tires for Motorcycles. VRC filed a noncompliance report dated June 7, 2021, and Honda filed a noncompliance report dated June 22, 2021. Subsequently, VRC petitioned NHTSA on June 22, 2021, and Honda petitioned NHTSA on July 14, 2021, for a decision that the subject noncompliance is inconsequential as it relates to motor vehicle safety. This notice announces receipt of VRC and Honda's petitions.

DATES: Send comments on or before January 26, 2023.

ADDRESSES: Interested persons are invited to submit written data, views, and arguments on these petitions. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petitions are granted or denied, notice of the decision will also be published in the Federal Register pursuant to the authority indicated at the end of this notice.

All comments, background documentation, and supporting materials submitted to the docket may be viewed by anyone at the address and times given above. The documents may also be viewed on the internet at https://www.regulations.gov by following the online instructions for accessing the docket. The docket ID numbers for these petitions are shown in the heading of this notice.

DOT's complete Privacy Act Statement is available for review in a Federal Register notice published on April 11, 2000 (65 FR 194772012;78).

FOR FURTHER INFORMATION CONTACT: Jayton Lindley, General Engineer, NHTSA, Office of Vehicle Safety Compliance, (325) 655-0547.

SUPPLEMENTARY INFORMATION:

I. Overview

VRC and Honda have determined that certain Vee Rubber VRM133 motorcycle tires sold as replacement equipment and as original equipment for installation on certain 2019-2021 Honda Monkey motorcycles do not fully comply with the requirements of paragraph S6.5(b) of FMVSS No. 119, New Pneumatic Tires for Motor Vehicles with a GVWR of More Than 4,536 Kilograms (10,000 Pounds), Specialty Tires, and Tires for Motorcycles (49 CFR 571.119).

VRC filed a noncompliance report dated June 7, 2021, pursuant to 49 CFR part 573, Defect and Noncompliance Responsibility and Reports. VRC subsequently petitioned NHTSA on June 22, 2021, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

Honda filed a noncompliance report dated June 22, 2021, pursuant to 49 CFR part 573, Defect and Noncompliance Responsibility and Reports. Honda subsequently petitioned NHTSA on July 14, 2021, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of VRC and Honda's petitions is published under 49 U.S.C. 30118 and 30120 and does not represent any Agency decision or other exercise of judgment concerning the merits of the petitions.

II. Tires Involved

Approximately 29,018 Vee Rubber VRM133 motorcycle tires sizes 120/80-12 and 130/80-12, sold as replacement equipment and to Honda for installation in certain Honda motorcycles, and manufactured between March 5, 2018, and May 27, 2021, are potentially involved.

The subject tires were installed as original equipment on approximately 13,328 MY 2019-2021 Honda Monkey motorcycles manufactured between July 4, 2018, and April 2, 2021, and therefore these vehicles are also potentially involved.

III. Noncompliance

VRC and Honda explain that the noncompliance is that the subject tires contain extra markings between the manufacturer's code and production week mark within the tire identification number (TIN), and, therefore, do not comply with the requirements specified in paragraph S6.5(b) of FMVSS No. 119. Specifically, the tires included an extra grouping of characters, beginning with the letter “V” followed by numbers between the second and third grouping of characters. For example, the tires were marked “DOT 15A BCN133 Vxxxxxx xxxx” or “DOT 15A BBN133 Vxxxxxx xxxx” when they should have been marked “DOT 15A BCN133 xxxx” or “DOT 15A BBN133 xxxx,” with “x” representing the number present on a specific tire.

IV. Rule Requirements

Paragraph S6.5(b) of FMVSS No. 119 includes the requirements relevant to these petitions. S6.5(b) provides that the TIN must meet the requirements as stated in 49 CFR 574 and may be marked on only one sidewall. 49 CFR 574.5(a) requires, in relevant part, that each new tire manufacturer must conspicuously label on one sidewall of each tire it manufactures, by permanently molding into or onto the sidewall, a TIN consisting of 13 symbols that contains the plant code, manufacturer's code, and date code, as described in paragraphs (b)(1) through (b)(3) of 49 CFR 574.5.

V. Summary of VRC and Honda's Petitions

The following views and arguments presented in this section, “V. Summary of VRC and Honda's Petitions,” are the views and arguments provided by VRC and Honda. They have not been evaluated by the Agency and do not reflect the views of the Agency. VRC and Honda describe the subject noncompliance and contend that the noncompliance is inconsequential as it relates to motor vehicle safety.

In support of their petitions, VRC and Honda submitted the following reasoning:

VRC claims that the subject tires meet the performance requirements of FMVSS No. 119 and, therefore, the “markings have no impact on the operational performance of the tires or on the safety of motorcycles on which these tires are installed.” VRC also claims that the subject tires contain “a complete and identifiable TIN which is accessible while mounted” and that in the event of a recall, a consumer would have access to all the necessary information required to determine whether their tires are subject to a recall.

In Honda's petition, they state that they support VRC's petition and believe that the extra markings on the tires do not pose a safety risk to riders or affect the performance of the subject motorcycle tires. Honda added that the subject tires are both identifiable and traceable since the extra markings “do not alter or remove any required identifying characters of the TIN.”

The petitioners referred to the following inconsequential noncompliance petitions granted by NHTSA that they believe support the granting of their petitions for the subject noncompliance:

• Michelin North America, Inc., Grant of Petition for Decision of Inconsequential Noncompliance; 85 FR 37495, June 22, 2020.

• Bridgestone Firestone North America Tire, LLC, Grant of Petition for Decision of Inconsequential Noncompliance; 71 FR 4396, January 26, 2006.

• Cooper Tire & Rubber Company, Grant of Petition for Decision of Inconsequential Noncompliance; 71 FR 4396, January 26, 2006.

• Cooper Tire & Rubber Company, Grant of Petition for Decision of Inconsequential Noncompliance; 82 FR 17075, April 7, 2017.

• Nitto Tire USA., Inc., Grant of Petition for Decision of Inconsequential Noncompliance; 81 FR 17764, March 30, 2016.

• Hankook Tire America, Grant of Petition for Decision of Inconsequential Noncompliance; 79 FR 30688, May 28, 2014.

The petitioners state that they are not aware of any customer claims, complaints, injuries, incidents, or field reports associated with the extra markings in the TIN on the affected tires.

VRC states that they have already corrected the error at its plant so that the TIN on all new Model VRM133 tires in the affected sizes will be marked according to S6.5(b) of FMVSS No. 119. VRC also states that they have recovered all affected tires in possession of United States distributors or retailers that have not yet reached end-users.

The petitioners conclude their petitions by contending that the subject noncompliance is inconsequential as it relates to motor vehicle safety and that their petitions to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on these petitions only applies to the subject tires and vehicles that the petitioners no longer controlled at the time it determined that the noncompliance existed. However, any decision on these petitions does not relieve tire and vehicle distributors and dealers of the prohibitions on the sale, offer for sale, or introduction or delivery for introduction into interstate commerce of the noncompliant tires and vehicles under their control after VRC and Honda notified them that the subject noncompliance existed.

(Authority: 49 U.S.C. 30118, 30120: delegations of authority at 49 CFR 1.95 and 501.8)

Otto G. Matheke III,
Director, Office of Vehicle Safety Compliance.

[FR Doc. 2022-28061 Filed 12-23-22; 8:45 am]

BILLING CODE 4910-59-P